DEPARTMENT OF COMMERCE

National Oceanic and Atmospheric Administration

[I.D. 080105D]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Capacity Committee in August, 2005 to consider actions affecting New England fisheries in the exclusive economic zone (EEZ). Recommendations from this group will be brought to the full Council for formal consideration and action, if appropriate.

DATES: The meeting will be held on Thursday, August 25, 2005, at 9 a.m.

ADDRESSES: The meeting will be held at the Sheraton 4 Points Hotel, 407 Squire Road, Revere, MA 02151; telephone: (781) 284-7800; fax: (781) 284-1886.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Capacity Committee will meet to consider the Terms of Reference (TOR) approved by the Council, including the direction to develop capacity reduction alternatives for scallop and groundfish fisheries. The Committee will detail a strategy for addressing the TOR, including identifying information requirements and a schedule of meetings with specific milestone goals in order to complete final recommendations to the Council by March 2006.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Dated: August 3, 2005.
Emily Menashes,
Acting Director, Office of Sustainable Fisheries, National Marine Fisheries Service.

[FR Doc. E5-4246 Filed 8-5-05; 8:45 am]

BILLING CODE 3510-22-S